NATIONAL SCIENCE FOUNDATION

Extension of Comment Period on the Environmental Impact Statement for the Proposed Changes to Green Bank Observatory Operations

AGENCY: National Science Foundation.

ACTION: Notice.

SUMMARY: The National Science Foundation published a notice on October 19, 2016, at 81 FR 72124, seeking comments on identifying issues to be analyzed in the Environmental Impact Statement for the proposed changes to Green Bank Observatory operations. The original comment date was to end on November 19, 2016.

DATES: Comments on this notice will now be accepted through November 25, 2016.

ADDRESSES: Submit comments electronically to envcomp-AST-greenbank@nsf.gov or send by mail to National Science Foundation, Division of Astronomical Sciences, 4201 Wilson Blvd., Suite 1045, Arlington, VA 22230.

FOR FURTHER INFORMATION CONTACT: Elizabeth Pentecost, National Science Foundation, Division of Astronomical Sciences, 4201 Wilson Blvd., Suite 1045, Arlington, VA 22230; telephone: (703) 292-4907; email: epenteco@nsf.gov.

SUPPLEMENTARY INFORMATION: Comments on the scope of the preliminary proposed alternatives and resource areas to be studied may be submitted in writing through November 25, 2016. To be eligible for inclusion in the Draft EIS, all comments must be received prior to the close of the scoping period. NSF will provide additional opportunities for public participation upon publication of the Draft EIS. Information will be posted, throughout the EIS process, at www.nsf.gov/AST.

Dated: October 27, 2016.
Suzanne H. Plimpton,
Reports Clearance Officer, National Science Foundation.

[FR Doc. 2016-26343 Filed 10-31-16; 8:45 am]

BILLING CODE 7555-01-P